SMALL BUSINESS ADMINISTRATION

Revocation of License of Small Business Investment Company

Pursuant to the authority granted to the United States Small Business Administration by the Final Order of the United States District Court for the Northern District of Georgia, Atlanta Division, dated September 22, 2003, the United States Small Business Administration hereby revokes the license of Fidelity Capital Corporation, a Georgia Corporation, to function as a small business investment company under the Small Business Investment Company License No. 04/05-0028 issued on April 18, 1961 to Business Investor, Inc. which subsequently merged with Fidelity Capital Corporation and said license is hereby declared null and void as of December 23, 2003.

Dated: March 7, 2006.
United States Small Business Administration.
Jaime Guzman-Fournier,
Associate Administrator for Investment.

[FR Doc. E6-4446 Filed 3-27-06; 8:45 am]

BILLING CODE 8025-01-P